FEDERAL DEPOSIT INSURANCE CORPORATION

Agency Information Collection Activities: Proposed Collection Renewals; Comment Request

AGENCY: Federal Deposit Insurance Corporation (FDIC).

ACTION: Notice and request for comment.

SUMMARY: The FDIC, as part of its continuing effort to reduce paperwork and respondent burden, invites the general public and other Federal agencies to take this opportunity to comment on continuing information collections, as required by the Paperwork Reduction Act of 1995 (44 U.S.C. chapter 35). Currently, the FDIC is soliciting comments concerning the following collections of information titled: “Flood Insurance,” OMB No. 3064-120, and “Forms Relating to Processing Deposit Insurance Claims,” OMB No. 3064-0143.

DATES: Comments must be submitted on or before June 3, 2008.

ADDRESSES: Interested parties are invited to submit written comments to the FDIC by any of the following methods. All comments should refer to the name of the collection:

• http://www.FDIC.gov/regulations/laws/federal/notices.html.

• E-mail: comments@fdic.gov. Include the name of the collection in the subject line of the message.

• Mail: Leneta G. Gregorie (202-898-3719), Counsel, Room F-1064, Federal Deposit Insurance Corporation, 550 17th Street, NW., Washington, DC 20429.

• Hand Delivery: Comments may be hand-delivered to the guard station at the rear of the 17th Street Building (located on F Street), on business days between 7 a.m. and 5 p.m.

A copy of the comments may also be submitted to the OMB desk officer for the FDIC: Office of Information and Regulatory Affairs, Office of Management and Budget, New Executive Office Building, Washington, DC 20503.

FOR FURTHER INFORMATION CONTACT: Leneta G. Gregorie, at the telephone number and address identified above.

SUPPLEMENTARY INFORMATION: Proposal to renew the following currently approved collections of information:

1. Title: Flood Insurance.

OMB Number: 3064-0120.

Frequency of Response: On occasion.

Affected Public: Any depository institution that makes one or more loans to be secured by a building located on property in a special flood hazard area.

Estimated Number of Respondents/Recordkeepers: 5,272.

Estimated Number of Transactions: 180,000.

Estimated Reporting Hours: .05 hours × 180,000 = 9,000.

Estimated Recordkeeping Hours: 1 hour × 5,272 hours = 5,272 hours.

Estimated Total Annual Reporting and Recordkeeping Burden Hours: 5,272 + 9,000 = 14,272 hours.

General Description of Collection: Each supervised lending institution is currently required to provide a notice of special flood hazards to each borrower with a loan secured by a building or mobile home located or to be located in an area identified by the Director of the Federal Emergency Management Administration as being subject to special flood hazards. The Riegle Community Development Act requires that each institution must also provide a copy of the notice to the servicer of the loan (if different from the originating lender).

2. Title: Forms Relating to Processing Deposit Insurance Claims.

OMB Number: 3064-0143.

Frequency of Response: On occasion.

Affected Public: Deposit brokers and depositors of failed insured institutions.

Estimated Number of Respondents: 5,236 (see chart below).

Total Annual Burden: 2,875 hours (see chart below).

Burden Estimate, Combined Deposit Brokers and Individuals
[Frequency of response: Occasional]
Form No. | Form title | Hours | Respondents | Burden hours
7200/03 | Declaration for Testamentary Deposit (Single Grantor) | .50 | 1,000 | 500
7200/04 | Declaration for Public Unit Deposit | .50 | 500 | 250
7200/05 | Declaration for Trust | .50 | 1,100 | 550
7200/06 | Declaration of Independent Activity | .50 | 25 | 12.5
7200/07 | Declaration of Independent Activity for Unincorporated Association | .50 | 25 | 12.5
7200/08 | Declaration for Joint Ownership Deposit | .50 | 25 | 12.5
7200/09 | Declaration for Testamentary Deposit (Multiple Grantors) | .50 | 500 | 250
7200/10 | Declaration for Defined Contribution Plan | 1.0 | 50 | 50
7200/11 | Declaration for IRA/KEOGH Deposit | .50 | 50 | 25
7200/12 | Declaration for Defined Benefit Plan | 1.0 | 200 | 200
7200/13 | Declaration of Custodian Deposit | .50 | 50 | 25
7200/14 | Declaration for Health and Welfare Plan | 1.0 | 200 | 200
7200/15 | Declaration for Plan and Trust | .50 | 1,300 | 650
Subtotal |  |  | 5,025 | 2,738

Burden Estimate, Deposit Brokers Only
| Burden per response | Number of responses | Burden hours
Deposit Broker Submission Checklist | 5 minutes | 70 | 6
Diskette, following “Broker Input File Requirements.” | The burden will vary depending on the broker's number of brokered accounts. |  |
| 45 minutes | 53 responses (75% of 70 annual responses) | 40
| 5 hours | 18 responses (25% of 70 annual responses) | 90
Exhibit B, the standard agency agreement, or the non-standard agency agreement | 1 minute | 70 | 1
Subtotal |  | 211 | 137

General Description of Collection: When an insured institution is closed by its primary regulatory authority, the FDIC has the responsibility to pay the insured claims of the failed bank depositors pursuant to sections 11(a) and (f) of the Federal Deposit Insurance Act (FDI Act), 12 U.S.C. 1821 (a) and (f), and the FDIC's regulation on “Deposit Insurance Coverage,” 12 CFR part 330.

Generally, deposits are insured to a maximum of $100,000. This maximum coverage is based on “ownership rights and capacities.” All deposits that are maintained in the same right and capacity are added together and insured up to $100,000 in accordance with the regulations relating to deposit insurance of that particular deposit insurance ownership category. Deposits held in different ownership categories are eligible for $100,000 coverage per category. For example, as a general rule, single-ownership accounts are separately insured from trust accounts held for qualified beneficiaries.

At the time of closing, the FDIC is provided information about customer accounts through the failed institution's records. Based on the institution's records, the FDIC makes preliminary determinations about insurance coverage for each depositor. Depositors initially deemed to be uninsured because their deposits are over $100,000 may be qualified for additional insurance coverage if they can provide documents certifying to the existence of varying ownership rights and capacities.

a. General Deposit Accounts. The forms, declarations, and affidavits in this collection facilitate customers providing the FDIC with the information that may permit a more comprehensive deposit insurance determination.

b. Deposit Brokers. A failed institution's account records may not reveal the actual owner(s) of a particular deposit account. Rather, the account records may indicate that the deposit was placed at the institution by a deposit broker on behalf of one or more third parties. In some cases, the broker's customer may not be an actual owner of the deposit but merely a “second-tier” deposit broker with its own customers. In turn, these customers could be “third-tier” deposit brokers with their own customers. Deposits held in the name of a deposit broker on behalf of clients are covered by federal deposit insurance (up to the $100,000 limit) the same as if the broker's clients had deposited the funds directly into the institution (assuming that the clients are the actual owners of the deposit). This is called “pass-through” deposit insurance coverage.

In order to analyze ownership interest and provide pass-through insurance coverage, the FDIC must obtain certain information from both first and lower-tier deposit brokers: (1) Evidence that each deposit broker is not an owner but an agent or custodian with respect to some or all of the funds at issue; (2) a list of all parties for whom each deposit broker acted as agent or custodian; and (3) the dollar amount of funds held by each deposit broker for each such party as of the date of the depository institution's failure.

Request for Comment

Comments are invited on: (a) Whether this collection of information is necessary for the proper performance of the FDIC's functions, including whether the information has practical utility; (b) the accuracy of the estimates of the burden of the information collection, including the validity of the methodologies and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 1st day of April, 2008.
Federal Deposit Insurance Corporation.
Robert E. Feldman,
Executive Secretary.

[FR Doc. E8-7003 Filed 4-3-08; 8:45 am]

BILLING CODE 6714-01-P